DEPARTMENT OF COMMERCE

National Oceanic and Atmospheric Administration

[RTID 0648-XF289]

Magnuson-Stevens Fishery Conservation and Management Act Provisions; Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region (GARFO), NMFS, has made a preliminary determination that an Exempted Fishing Permit (EFP) application contains all of the required information and warrants further consideration. The EFP would allow federally permitted fishing vessels to fish outside fishery regulations in support of exempted fishing activities proposed by the NOAA Northeast Fisheries Science Center (NEFSC). Regulations under the Magnuson-Stevens Fishery Conservation and Management Act require publication of this notification to provide interested parties the opportunity to comment on applications for proposed EFPs.

DATES: Comments must be received on or before December 19, 2025.

ADDRESSES: You may submit written comments by email: nmfs.gar.efp@noaa.gov. Include in the subject line “NEFSC On-demand EFP”. All comments received are a part of the public record and may be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Christine Ford, Fishery Management Specialist, Christine.Ford@noaa.gov, (978) 281-9185.

SUPPLEMENTARY INFORMATION: The NOAA NEFSC submitted a complete application for an EFP to conduct commercial fishing activities that the regulations would otherwise restrict, to continue trials of on-demand fishing gear that use one or no surface buoys and to test the ability of gear marking systems to consistently locate gear. This EFP would exempt the participating vessels from the following Federal regulations:

Table 1—Requested Exemptions
CFR citation | Regulation | Need for exemption
50 CFR 697.21(b) | Gear marking requirements | For trial of trap/pot gear with no more than one surface marking on trawls of more than three traps, and trial of trap/pot gear with no surface marking on trawls of three or fewer traps.
50 CFR 648.84(b) | Gear marking requirements | For trial of gillnet gear with no more than one surface marking.
50 CFR 648.264(a)(5) | Gear marking requirements | For trial of red crab trap/pot gear with no more than one surface marking on trawls.

Table 2—Project Summary
Project title | Development and trials of on-demand fishing systems in fixed gear fisheries.
Project start | 01/01/2026.
Project end | 12/31/2026.
Project objectives | To expand the trials of on-demand fishing systems with additional participants and fisheries to ensure testing has been conducted adequately across the breadth of regional commercial fishing conditions, with the aim of sustaining the fixed gear fishing industry, while reducing the entanglement risk to the critically endangered North Atlantic right whale.
Project location | Gulf of Maine, Georges Bank, Southern New England, and Mid-Atlantic, including but not limited to Statistical Areas: 512, 513, 514, 515, 521, 522, 561, 562, 525, 526, 537, 538, 539, 621, 626.
Number of vessels | Trap/pot: Up to 180, including up to 5 using grappling; Gillnet: Up to 20.
Number of trips | Trap/pot: Up to 15,000 trips (180 vessels making an average of 1.5 trips/week); Gillnet: Up to 1,600 trips (20 vessels making an average of 1.5 trips/week).
Trip duration (days) | Variable based on fishery, target species, and fishing location, but within the range of standard commercial fishing trips and consistent with FMP regulations.
Gear type(s) | Lobster traps, deep-sea red crab pots, fish pots, and anchored-fixed gillnets.
Number of tows or sets | Trap/pot: Effort capped at 1,800 total modified trap/pot trawls actively fished, including grappled trawls. Gillnet: Effort capped at 200 modified gillnet strings. Per vessel effort will vary by season, fishing operation, and the number of active participants, but will not exceed 20 modified trawls and/or strings. In Atlantic Large Whale Take Reduction Plan (ALWTRP) Restricted Areas, vessels will be allowed to modify up to 20 lobster trawls, with a cap of 600 total trawls actively fished across the Restricted Areas.
Duration of tows or sets | Trap/pot: Variable, but expected to be 14 days or less. Will not exceed 30 days, as required by regulation; Gillnet: Typical commercial soak times.

Project Narrative

This project is a continuation and broadening of the development of on-demand (also known as ropeless) fishing systems aimed at reducing the entanglement risk to protected species, mainly the North Atlantic right whale, in trap/pot and gillnet fisheries. The NEFSC's existing EFP (DA24-004) authorizes on-demand gear trials on up to 180 lobster trap/pot vessels and up to 20 total gillnet, red crab trap, and black sea bass pot vessels. The EFP will expire on December 31, 2025. This project would allow up to 180 total trap/pot vessels and up to 20 gillnet vessels to replace up to 20 of their existing trawls/strings (up to 2,000 total trawls/strings) with modified trawls/strings, including in the ALWTRP Restricted Areas. Modified gear would replace one or both traditional end lines with acoustic on-demand systems and other alternatives to persistent buoy lines (including, but not limited to, spooled systems, buoy and stowed-rope systems, lift-bag systems, and grappling).

The ultimate goal of this project is to enable the continuation of some of the region's most valuable and historically significant fisheries while also meeting the requirements set forth by the ALWTRP and section 118(f) of the Marine Mammal Protection Act, specifically reducing the level of serious injury and mortality of North Atlantic right, humpback, and fin whales in commercial fisheries. To achieve this, the project includes objectives to test the efficacy of fully on-demand trawls/strings and the adequacy of gear marking systems that use data hubs and visualization platforms to share on-demand gear locations. The research focus for this project includes:

• Gear performance evaluation in varied environmental conditions among varied vessel and gear characteristics to inform safety decisions, refine reliability and user experience, compare timing across operations and fishing modalities, and determine alternative (digital) gear location marking accuracy;

• Data analysis focused on durability, manufacturer-specific performance, and criteria that could be used to later approve gear technologies;

• Continued evaluation of the reliability of new innovative gears as they come on the market by working with manufacturers and fishermen to pilot test gears;

• Expansion of experimental fishing in Restricted Areas in ways that make sense with a focus on safety (protected species and fishermen) and equity (fishermen and manufacturers) to assess the feasibility and efficiency of fishing fully on-demand trawls; and

• Expansion of communication efforts to the broader fishing community, managers, and partners.

To ensure that on-demand fishing and gear marking technologies are adequately tested across the breadth of regional commercial fishing conditions, the NEFSC requests the flexibility to test on-demand gear across the geographic range of the Federal American lobster and Jonah crab fishery, including testing fully on-demand gear (no persistent vertical lines) in ALWTRP Restricted Areas. It also requests the opportunity to trial on-demand gillnet and other trap/pot gear across the Gulf of Maine, Georges Bank, Southern New England, and the Mid-Atlantic. To cover a greater area and target areas where data is needed, NEFSC has requested the flexibility to have greater than 200 participants during the permit period (with only 200 fishing at one time). It would provide requested modifications to the active participants, general locations, and technologies to be tested one month in advance. Priority would be given to participants who are seasonally excluded from fishing in certain areas and/or in offshore fisheries with limited entanglement mitigation options.

This permit would only exempt vessels from the specified Federal regulations in Federal waters. It would not exempt the vessels from any requirements imposed by any state, the Endangered Species Act, the Marine Mammal Protection Act, or any other applicable laws. The applicant would be responsible for obtaining all required state authorizations. Other than gear markings, all trap/pot trawls and gillnet strings would be consistent with the regulations of the management area where the vessel is fishing and would be fished in accordance with the participating vessels' standard operations (number and length of trips, soak times, trap limits, etc.).

The use of on-demand lobster trap gear in the ALWTRP Restricted Areas is limited to gear without any persistent vertical lines. The EFP would allow vessels to modify up to 20 trawls each, but would cap effort to 600 total trawls in the ALWTRP Restricted Areas. If necessary due to a high level of interest and limited capacity, the NEFSC may require a demonstrated history of fishing within ALWTRP Restricted Areas as a condition for participation in on-demand trials in those areas.

In recognition of industry's interest in grappling as a low-cost alternative to acoustic on-demand systems, this project would also allow up to 5 vessels to retrieve up to 20 trawls via grappling; this would be a subset of the 180 total trap/pot vessels and the 1,800 modified trap/pot trawls effort cap. This would enable the NEFSC to collect data on the viability of grappling at a commercial scale. Although no grappling trials have occurred to date, four vessels/operators have expressed interest in participating in the study. Unlike what is authorized under the existing EFP, no grappling would be allowed in the ALWTRP Restricted Areas.

In the first phase of participation, staff from the NEFSC and the gear manufacturers would provide training to ensure that the system is working as intended and that all participants have sufficient experience with the gear before borrowing from the gear cache library. In the second phase, participating vessels would rig an on-demand system to one end of a standard trawl or string and fish it as a hybrid (with one traditional surface marking) for at least 10 hauls per system. In phase three, participants would fish the gear as part of normal fishing operations, including fishing fully on-demand gear and fully on-demand trap trawls in the ALWTRP Restricted Areas. In some cases, a scientific observer may be on board, and/or GoPro Systems (or equivalent) may record gear retrievals. The NEFSC would provide standardized data collection sheets to all participants, but individually-identifiable data would only be made public with the express permission of the vessel owner.

The NEFSC also plans to include targeted geolocation studies in areas with limited trawling and/or dredging to test new location-marking systems on the seafloor and automated location-marking when gear is set and retrieved. This EFP would support efforts to improve gear-marking and gear-conflict avoidance technologies, including testing the amount of effort to mark sub-surface gear location in the Trap Tracker app (vs. surface location where the gear is deployed) and other sub-surface gear marking technologies. This EFP would also continue to test the EarthRanger platform that displays gear locations from various gear-marking technologies. The NEFSC would demonstrate and encourage adoption of these technologies with non-participant vessels.

The NEFSC proposes the following best practices and risk reduction measures:

• All vessels would report all right whale sightings to NMFS via ne.rw.survey@noaa.gov or NOAA (866-755-6622) or the U.S. Coast Guard (Channel 16) and record sightings on data sheets;

• All vessels would retrieve on-demand vertical lines as quickly as possible to minimize time in the water column;

• All vessels would adhere to current approach regulations—a 500-yard (1,500-foot) buffer zone created by a surfacing right whale—and must depart immediately at a safe and slow speed, in accordance with current regulations. Hauling any lobster gear would immediately cease (by removal) to accommodate the regulation and be reinitiated only after it is reasonable to assume the whale has left the area;

• All vessels would provide mandatory, weekly gear loss reports;

• All vessels would operate within a 10-knot (18.52 km per hour) speed limit when transiting ALWTRP Restricted Areas or when whales are observed;

• For fully on-demand gear without traditional surface markings, participants would use the Trap Tracker or an equivalent technology for retrieval and set positioning details, which would be available to Federal, state, and corresponding enforcement personnel, as well as other fishermen;

• For fully on-demand gear without traditional surface markings, on-demand vertical lines would be marked with unique yellow/black/orange marks above the regional markings, in addition to ALWTRP regulations (per agreement with the NMFS Atlantic Large Whale Take Reduction Team Coordinator);

• When fishing in ALWTRP Restricted Areas, vessels would check real-time right whale sightings information (such as Right Whale Sightings Advisories and Whale ALERT) before setting any gear and avoid areas of high right whale abundance, and all vessels would be recommended to follow this process when setting gear outside the ALWTRP Restricted Areas;

• Enforcement would be provided with and trained on the Trap Tracker app (for seeing subsea-marked gear) prior to the start of the trials;

• A unique flag would be flown by each vessel for enforcement recognition; and

• The NEFSC would continue to provide monthly updates on any gear conflicts to GARFO's Sustainable Fisheries Division.

Vessels fishing fully on-demand lobster trap trawls in ALWTRP Restricted Areas would be required to follow additional practices:

• All participants would carry a NEFSC scientist on a subset of trips to collect additional data and oversee trial performance;

• Stowed hauling lines in on-demand units would contain unique colored identification marks consisting of orange marks above each regional ALWTRP marking;

• No floating groundline would be used on research trawls, including where otherwise legally allowed between the first trap and anchor or on-demand unit;

• If any large whale species comes within 500 yards of a participating vessel during hauling, fishing would immediately cease, by either removal or resetting, and be reinitiated only after it was reasonable to assume the whale(s) has left the area;

Participants would be provided with information on species identification as well as protocols to report live, dead, or entangled sightings of all large whale species. All whale sightings would be recorded on data sheets.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: December 1, 2025.
Kelly Denit,
Director, Office of Sustainable Fisheries, National Marine Fisheries Service.

[FR Doc. 2025-21895 Filed 12-3-25; 8:45 am]

BILLING CODE 3510-22-P